DEPARTMENT OF THE INTERIOR

Fish and Wildlife Service

50 CFR Part 21

Migratory Bird Permits; Notice of Amendment of Falconry, Raptor Propagation, and Certain Scientific Collecting Permits

AGENCY: Fish and Wildlife Service, Interior.

ACTION: Notice of permit amendment.

SUMMARY: Just prior to removing the American peregrine falcon from the U.S. List of Endangered and Threatened Wildlife, we amended all Migratory Bird Treaty Act (MBTA) permits that authorized the take of wild raptors for falconry and raptor propagation purposes and scientific collecting permits that were not species-specific. The permit amendment continued the prohibition on removing peregrines from the wild until we can issue biological criteria to manage such take. We were unable to locate several permit holders. Therefore, this document serves as official notice to those holders of Federal falconry or raptor propagation permits, or scientific collecting permits that are not species-specific, who did not receive our amendment letter. This notice amends your permit.

EFFECTIVE DATE: May 15, 2000.

ADDRESSES: Comments or questions concerning this notice may be addressed to Jon Andrew, Chief, Migratory Bird Management Office, 4401 North Fairfax Drive, ARLSQ 634, Arlington, Virginia 22203 (703-358-1714). Questions or information concerning individual permits should be addressed to the Regional Migratory Bird Permit Office responsible for your State, as follows: (1) Region 1 (CA, HI, ID, NV, OR, WA, Pacific Island Territories) 911 N.E. 11th Avenue, Portland, OR 97232-4181 (503/872-2715); (2) Region 2 (AZ, NM, OK, TX) P.O. Box 709, Albuquerque, NM 87103 (505/248-7882); (3) Region 3 (IL, IN, IA, MI, MN, MO, OH, WI) One Federal Drive, Ft. Snelling, MN 55111-0045 ((612) 713-5436); (4) Region 4 (AL, AR, FL, GA, KY, LA, MS, NC, SC, TN, PR, VI) P.O. Box 49208, Atlanta, GA 30359 (404/679-7070); (5) Region 5 (CT, DE, D.C., ME, MD, MA, NH, NJ, NY, PA, RI, VT, VA, WV) P.O. Box 779, Hadley, MA 01035-0779 (413/253-8641); (6) Region 6 (CO, KS, MT, NE, ND, SD, UT, WY) P.O. Box 25486, DFC(60130), Denver, CO 80225-0486 (303/236-8171); (7) Region 7 (AK) 1011 East Tudor Road, Anchorage, AK 99503 (907/786-3693).

FOR FURTHER INFORMATION CONTACT: Susan Lawrence, National Migratory Bird Permit Coordinator, Migratory Bird Management Office, at the Arlington, Virginia address above.

Background

On August 25, 1999, we published a final rule in the Federal Register removing the American peregrine falcon (Falco peregrinus anatum) from the U.S. Endangered Species List (64 FR 46542). The rule also removed the “similarity of appearance” provision for all free-flying peregrine falcons (F. peregrinus) in the conterminous States. The arctic peregrine (F. p. tundrius) was removed from the list in 1994. As a result of these rules, native peregrine falcons no longer receive the protection of the U.S. Endangered Species Act (ESA). Conservation of native peregrine falcons now falls primarily to the MBTA and State regulations.

The MBTA regulations in 50 CFR part 21 allow for the issuance of permits to take migratory birds for certain purposes. Prior to the delisting, American peregrine falcons could not be taken from the wild under migratory bird permits because of their endangered status under the ESA, and no free-flying peregrines of any subspecies in the 48 contiguous States could be taken from the wild due to the similarity of appearance provision under the ESA. Other than the general prohibition on taking ESA-listed species, most MBTA falconry and raptor propagation permits and some scientific collecting permits were not species-specific.

In July and August of 1999, in anticipation of the delisting, we sent a letter to all falconry and raptor propagation permit holders and all non-species-specific scientific collecting permit holders amending their permits to prohibit take of wild peregrines once the ESA restrictions no longer apply. Because take of Peales (Falco peregrinus pealei) and arctic peregrine subspecies by residents of Alaska was legal, and because Alaska currently prohibits take of wild birds by nonresidents, permits for Alaska residents were amended to prohibit take of only the American peregrine falcon subspecies (F. p. anatum) in Alaska and all peregrine falcons (F. peregrinus) in the conterminous United States. The amendments do not affect activities with captive-bred peregrines.

The general permit regulations in 50 CFR 13.23(b) authorize us to amend a permit if we determine that it is necessary to do so. The removal of ESA protection for the species and the need to complete biological criteria for take of peregrines constitute our finding of necessity for modification of these permits. These amendments are necessary to protect this newly recovered species from potential unregulated take while we reach agreement with other government entities on managing take, both of nestlings born in the United States as well as migrants, many of which originate outside the United States.

We were unable to locate several permit holders through the U.S. mail. Therefore, this document serves as notice to any holder of a Federal falconry permit, Federal raptor propagation permit, or Federal scientific collecting permit that is not species-specific for raptors, who did not receive our amendment letter. In accordance with 50 CFR 13.23(b), this notice amends your permit as follows:

For permittees residing in the conterminous United States:

You may not take a peregrine falcon (Falco peregrinus) from the wild in the United States.

For Alaska residents:

You may not take an American peregrine falcon (Falco peregrinus anatum) from the wild anywhere in the United States. You may not take any peregrine falcon (Falco peregrinus) from the wild in the conterminous United States.

Please attach this notice to your current permit. We may amend your permit again when management plans for peregrines are complete.

We attempted to notify all permittees individually of this amendment by letter sent to the address listed in existing permits. Permittees we were unable to locate by the address listed in their permits are identified below. However, this amendment notice applies to any holder of a Federal falconry permit, Federal raptor propagation permit, or Federal scientific collecting permit that is not species-specific for raptors, who did not receive our amendment letter.

Region 1

Timothy Jason Walker, Las Vegas, NV (PRT# 005114)

Region 2

Ken Diehl, Boerne, TX (PRT# 003091)

John Manley Griffith, Tyler, TX (PRT# 834718)

Calvin E. Knock, Prescott, AZ (PRT# 679316)

Kimberly Lykins, Abilene, TX (PRT# 822616)

Kathryn McCallum, Richmond, TX (PRT# 834725)

Pamala J. Nichols, Dallas, TX (PRT# 744189)

Amenda D. Riddle, Seguin, TX (PRT# 797580)

Frank Sickles, Las Cruces, NM (PRT# 712647)

Rockwell Trent Summers, Glenrose, TX (PRT# 837019)

David R. Williamson, Ft. Worth, TX (PRT# 679707)

John A. Yezeguielian, Pryor, OK (PRT# 704425)

Region 4

John Thomas Williams, Clinton, MS (PRT# 784042)

Dennis Lee Hinojos, Alpharetta, GA (PRT3# 752597)

Region 5

Santos Rodriguez, Columbia, MD (PRT# 001157)

Paul R. Getzel, Baltimore, MD (PRT# 801992)

Region 6

Jonathan Albrand, Salt Lake City, UT (PRT# 001157)

Steven Buckner, Lake Point, UT (PRT# 708924)

Brent Grasmick, Torrington, WY (PRT# 005714)

Pat Hnilicka, Cheyenne, WY (PRT# 794982)

Forrest Moore, Casper, WY (PRT# 698983)

Kristine Newbold, Lake Point, UT (PRT# 813936)

Kent Reisdorph, Aberdeen, SD (PRT# 770103)

Rip Ripley, Salt Lake City, UT (PRT# 764383)

Ronald Rollins, Roy, UT (PRT# 792790; 802055)

Weston Winegar, Salt Lake City, UT (PRT# 785325)

If you are among the permittees named above, or if you are a falconry, raptor propagation, or nonspecific scientific collecting permit holder not named above but you did not receive our amendment letter, you should contact your regional migratory bird permit office (see ADDRESSES section) within 10 days of the date of this notice to clarify your address. Service regulations require that permittees notify the permit issuing office within 10 calendar days of an address change (50 CFR 13.23(c)).

If you have concerns about the amendment that you wish to address through the formal administrative process, please refer to the review procedures in 50 CFR 13.29, a subsection of the general permit regulations, which you received with your permit application.

Authority: The authority for this action is the Migratory Bird Treaty Act (16 U.S.C. 703-711).

Dated: May 1, 2000.
Jamie Rappaport Clark,
Director, Fish and Wildlife Service.

[FR Doc. 00-12091 Filed 5-12-00; 8:45 am]

BILLING CODE 4310-55-U